FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 010071-041.

Title: Cruise Lines International Association Agreement.

Parties: AMA Waterways; American Cruise Lines, Inc.; Avalon Waterways; Azamara Cruises; Carnival Cruise Lines; Celebrity Cruises, Inc.; Costa Cruise Lines; Crystal Cruises; Cunard Line; Disney Cruise Line; Holland America Line; Hurtigruten, Inc.; Louis Cruises; MSC Cruises; NCL Corporation; Oceania Cruises; Paul Gauguin Cruises; Pearl Seas Cruises; Princess Cruises; Regent Seven Seas Cruises; Royal Caribbean International; Seabourn Cruise Line; SeaDream Yacht Club; Silversea Cruises, Ltd.; Uniworld River Cruises, Inc.; and Windstar Cruises.

Filing Party: Andre Picciurro, Esq. Kaye, Rose & Partners, LLP; Emerald Plaza, 402 West Broadway, Suite 1300; San Diego, CA 92101-3542.

Synopsis: The amendment updates the agreement membership and revises Appendix A to reflect changes to the Agreement's Affiliated Seller of Travel program.

Agreement No.: 011223-050.

Title: Transpacific Stabilization Agreement.

Parties: American President Lines, Ltd. and APL Co. PTE Ltd.; (operating as a single carrier); A.P. Moller-Maersk A/S trading as Maersk Line; China Shipping Container Lines (Hong Kong) Company Limited and China Shipping Container Lines Company Limited (operating as a single carrier); CMA CGM, S.A.; COSCO Container Lines Company Ltd; Evergreen Line Joint Service Agreement; Hanjin Shipping Co., Ltd.; Hapag-Lloyd AG; Hyundai Merchant Marine Co., Ltd.; Kawasaki Kisen Kaisha Ltd.; Mediterranean Shipping Company; Nippon Yusen Kaisha; Orient Overseas Container Line Limited; Yangming Marine Transport Corp.; and Zim Integrated Shipping Services, Ltd.

Filing Party: David F. Smith, Esq.; Cozen O'Connor; 6271 I Street NW.; Suite 1100; Washington, DC 20006.

Synopsis: The amendment would revise the geographic scope of the Agreement to delete the two-year time limitation for the inclusion of the U.S. export trade in the Agreement.

Agreement No.: 012197-001.

Title: CMA CGM/HLAG U.S.-West Med Slot Exchange Agreement.

Parties: CMA CGM S.A. and Hapag-Lloyd AG.

Filing Party: Wayne Rohde, Esq.; Cozen O'Connor; 6271 I Street NW.; Suite 1100; Washington, DC 20006.

Synopsis: The Amendment would delete the authority of the parties to share vessels and makes changes throughout the Agreement necessary to reflect the removal of that authority.

Agreement No.: 012299.

Title: CSCL/UASC/CMA CGM Vessel Sharing and Slot Exchange Agreement, Asia—U.S. West/East/Gulf Coasts.

Parties: China Shipping Container Lines Co. Ltd. and China Shipping Container Lines (Hong Kong) Co., Ltd. (collectively known as China Shipping); United Arab Shipping Company S.A.G.; and CMA CGM S.A.

Filing Party: Heather M. Spring, Esq.; CMA CGM (America) LLC; 5701 Lake Wright Drive; Norfolk, VA 23502.

Synopsis: The agreement authorizes the parties to cooperate on routes between Asia and the U.S. East, West, and Gulf Coasts through a combination of vessel sharing and slot exchange/charter arrangements.

By Order of the Federal Maritime Commission.
Dated: October 9, 2014.
Karen V. Gregory,
Secretary.

[FR Doc. 2014-24504 Filed 10-15-14; 8:45 am]

BILLING CODE 6730-01-P